DEPARTMENT OF TRANSPORTATION

Federal Motor Carrier Safety Administration

[Docket No. FMCSA-2022-0003]

Safety Fitness Determinations; Public Listening Session

AGENCY: Federal Motor Carrier Safety Administration (FMCSA), Department of Transportation (DOT).

ACTION: Notice of public listening session.

SUMMARY: FMCSA announces that it will host a listening session pertaining to development of an updated methodology to determine when a motor carrier is not fit to operate commercial motor vehicles in or affecting interstate commerce. Specifically, the Agency would like to hear from members of the public on issues of concern relating to the current Safety Fitness Determination (SFD), including, for example, the three-tiered rating system (Satisfactory, Unsatisfactory, Conditional) versus changing to a proposed single rating only when a carrier is found to be Unfit; utilizing inspection data and FMCSA's Safety Measurement System (SMS); incorporating driver behavior into SFD ratings; and revising the list of safety violations used to calculate the rating, and adjusting the weights allocated to particular violations including increasing the weight for unsafe driving violations. This FMCSA-hosted listening session will be open to all interested persons and will take place concurrently with the Texas Trucking Show in Houston, TX. All comments will be transcribed and placed in the public docket for the regulatory action. Individuals with diverse experiences and perspectives are encouraged to attend. In a separate notice, FMCSA will formally announce and provide separate registration information for two related virtual-only listening sessions on the same topics to be held in June and July, 2024.

DATES: The public listening session will be held on Saturday, June 29, 2024, from 1:00 p.m. to 2:30 p.m. CT. The session will be held in person. The listening session may end early if all participants wishing to express their views have done so.

Public Comment: The in-person session will allow members of the public to make brief statements to the panel. FMCSA will accept written comments to the docket through August 7, 2024.

ADDRESSES: The meeting will be held at the NRG Center, 1 NRG Parkway, Houston, TX 77054, in the Seminar Area next to the Trucking Exhibition. Please arrive early to allow time to check in and arrive at the room. Attendees do not need to preregister for the listening session but are required to register for the Texas Trucking Show using this link: https://texastruckingshow.com/register.

FOR FURTHER INFORMATION CONTACT: Stacy Ropp, (609) 661-2062, SafetyFitnessDetermination@dot.gov.

Services for Individuals with Disabilities: FMCSA is committed to providing equal access to the listening session. For accommodations for persons with disabilities, please email FMCSA.OUTREACH@dot.gov at least 2 weeks in advance of the meeting to allow time to make appropriate arrangements.

SUPPLEMENTARY INFORMATION:

I. Public Participation and Request for Comments

FMCSA encourages participation in the session and providing of comments. Members of the public may submit written comments to the public dockets for this action using any of the following methods:

A. Submitting Comments

If you submit a comment, please include the docket number for this notice (FMCSA-2022-0003). You may submit your comments and material online or by mail or hand delivery, but please use only one of these methods. FMCSA recommends that you include your name, email address, or a phone number in the body of your document.

To submit your comment online, go to www.regulations.gov. Insert the docket number (FMCSA-2022-0003) in the keyword box and click “Search.” Choose the document you want to comment on and click the “Comment” button. Follow the online instructions for submitting comments.

FMCSA will consider all comments and material received during the comment period for this notice, as described in the DATES section.

B. Viewing Comments and Documents

To view comments, go to www.regulations.gov and insert the docket number (FMCSA-2022-0003) in the keyword box and click “Search.” Choose this notice and click “Browse Comments.” If you have questions on viewing or submitting material to the docket, contact Dockets Operations at (202) 366-9826. Business hours are from 8:00 a.m. to 4:30 p.m. ET, Monday through Friday, except Federal holidays. You may also submit or view docket entries in person or by mail: U.S. Department of Transportation, 1200 New Jersey Avenue SE, West Building, Ground Floor, Washington, DC 20590-0001. To be sure someone is there to help you, please call (202) 366-9317 or (202) 366-9826 before visiting Dockets Operations.

C. Privacy Act

In accordance with 5 U.S.C. 553(c), DOT solicits comments from the public to better inform its rulemaking process. DOT posts these comments, including any personal information the commenter provides, to www.regulations.gov, as described in the system of records notice (DOT/ALL-14 FDMS), which can be reviewed at https://www.transportation.gov/individuals/privacy/privacy-act-system-records-notices. The comments are posted without edits and are searchable by the name of the submitter.

II. Background

FMCSA believes it is in the public interest to host a public listening session to receive additional comments on matters within FMCSA's jurisdiction, including its SFD process. Accordingly, FMCSA is announcing this listening session, being held at 1:00 p.m. on June 29, 2024, in Houston, TX, concurrently with the 2024 Texas Trucking Show. The listening session will be held in the Seminar Area next to the Trucking Exhibition. You may view a floorplan of the event at https://texastruckingshow.com/floorplan. FMCSA will also publish another notice formally announcing, and providing separate registration information for, two related virtual-only listening sessions on the same topics to be held in June and July, 2024.

FMCSA's listening session is open to the public. Registration with the Texas Trucking Show is required to attend FMCSA's listening session. Registration is free and may be completed online at https://texastruckingshow.com/register.

FMCSA is currently contemplating changes to its SFD process. To that end, the Agency published an ANPRM soliciting public input on the potential use of the SMS methodology to issue SFDs (88 FR 59489, Aug. 29, 2023). This public listening session is intended to gain additional feedback on issues of concern relating to the current SFD, including, for example:

• Continuing the current SFD three-tiered rating system (Satisfactory, Unsatisfactory, Conditional) versus changing to a proposed single rating, issued only when a carrier is found to be Unfit;

• Utilizing inspection data and FMCSA's SMS;

• Incorporating driver behavior into SFD ratings; and

• Revising the list of safety violations used to calculate the rating, and adjusting the weights allocated to particular violations, including increasing the weight for 49 CFR 392.2 (unsafe driving) violations.

III. Meeting Participation

The listening session is open to the public. Speakers' remarks will be limited to 3 minutes each.

Sue Lawless,
Acting Deputy Administrator.

[FR Doc. 2024-12530 Filed 6-6-24; 8:45 am]

BILLING CODE 4910-EX-P